NATIONAL ARCHIVES AND RECORDS ADMINISTRATION

[NARA-2016-031]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by June 16, 2016. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road, College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

Agencies may not destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0161-2016-0001, 4 items, 4 temporary items). Records related to loans administered by the Commodity Credit Corporation.

2. Department of Agriculture, Food and Nutrition Service (DAA-0462-2016-0001, 1 item, 1 temporary item). Master files of an electronic information system used to collect and track data relating to the Supplemental Nutritional Assistance Program.

3. Department of the Army, Agency-wide (DAA-AU-2016-0007, 1 item, 1 temporary item). Records relating to requests for waivers for applicants who do not meet established standards for enlistment in the Army.

4. Department of the Army, Agency wide (DAA-AU-2016-0018, 1 item, 1 temporary item). Records of economic data gathered during water management projects.

5. Department of Defense, Defense Finance and Accounting Service (DAA-0507-2016-0001, 1 item, 1 temporary item). Revision of item for foreign military sales case files to add collection and disbursement vouchers.

6. Department of Defense, Defense Threat Reduction Agency (DAA-0374-2014-0016, 1 item, 1 temporary item). Records relating to policies and procedures for verifying location of weapons systems.

7. Department of Defense, Defense Threat Reduction Agency (DAA-0374-2014-0030, 1 item, 1 temporary item). Records relating to the development of strategic plans including balanced scorecard and program review documentation.

8. Department of Homeland Security, Immigration and Customs Enforcement (DAA-0567-2015-0014, 6 items, 6 temporary items). Records related to removal travel operations including copies of international deportation agreements, guidance briefings, detainee custody review case files, and transportation logistics materials.

9. Department of Homeland Security, United States Citizenship and Immigration Services (DAA-0566-2016-0012, 3 items, 3 temporary items). Undeliverable and returned outgoing mail, to include submitted documentation and notices.

10. Department of Justice, Bureau of Alcohol, Tobacco, Firearms, and Explosives (DAA-0436-2016-0001, 2 items, 2 temporary items). Master files of an electronic information system used to collect and manage information gathered in the investigation of reported incidents of internal misconduct.

11. Department of Labor, Office of Congressional and Intergovernmental Affairs (DAA-0174-2013-0003, 9 items, 8 temporary items). Records related to congressional and intergovernmental affairs including correspondence and casework files, notification and announcement files, work files, appointment files, subject files, general correspondence, and related materials. Proposed for permanent retention are memorandum files.

12. Department of the Treasury, Internal Revenue Service (DAA-0058-2016-0007, 1 item, 1 temporary item). Master files of an electronic information system used for fraud detection.

13. Department of the Treasury, Internal Revenue Service (DAA-0058-2016-0009, 1 item, 1 temporary item). Master files of an electronic information system used for transaction processing and data validation.

14. Department of the Treasury, Internal Revenue Service (DAA-0058-2016-0010, 1 item, 1 temporary item). Master files of an electronic information system used to detect fraudulent tax return filings.

15. Department of the Treasury, Internal Revenue Service (DAA-0058-2016-0011, 1 item, 1 temporary item). Records of a Web site used to support a taxpayer rights conference.

16. Court Services and Offenders Supervision Agency for the District of Columbia, Agency-wide (DAA-0562-2014-0002, 4 items, 1 temporary item). Internal administrative directives. Proposed for permanent retention are records of high-level officials, mission-related policies and procedures, and annual reports and strategic plans.

17. Court Services and Offenders Supervision Agency for the District of Columbia, Agency-wide (DAA-0562-2016-0001, 2 items, 2 temporary items). Records documenting court-ordered expunction.

18. Environmental Protection Agency, Office of Water (DAA-0412-2016-0001, 1 item, 1 temporary item). Electronic data obtained from injection well activity reports and managed by the Underground Injection Control Program Summary System.

Dated: May 6, 2016.
Margaret Hawkins,
Director, Records Appraisal and Agency Assistance.

[FR Doc. 2016-11610 Filed 5-16-16; 8:45 am]

BILLING CODE 7515-01-P